DEPARTMENT OF HEALTH AND HUMAN SERVICES

Centers for Disease Control and Prevention

[30Day-11-11FE]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-5960 or send an e-mail to omb@cdc.gov. Send written comments to CDC Desk Officer, Office of Management and Budget, Washington, DC 20503 or by fax to (202) 395-5806. Written comments should be received within 30 days of this notice.

Proposed Project

Musculoskeletal Disorder (MSD) Intervention Effectiveness in Wholesale/Retail Trade Operations—New—National Institute for Occupational Safety and Health (NIOSH), Centers for Disease Control and Prevention (CDC).

Background and Brief Description

For the current study, the National Institute for Occupational Safety and Health (NIOSH) and the Ohio Bureau of Workers Compensation (OBWC) will collaborate on a multi-site intervention study at OBWC-insured wholesale/retail trade (WRT) companies from 2011-2014. In overview, MSD engineering control interventions [stair-climbing, powered hand trucks (PHT) and powered truck lift gates (TLG)] will be tested for effectiveness in reducing self-reported back and upper extremity pain among 960 employees performing delivery operations in 72 WRT establishments using a prospective experimental design (multiple baselines across groups with randomization). The costs of the interventions will be funded through existing OBWC funds and participating establishments. This study will provide important information that is not currently available elsewhere on the effectiveness of OSH interventions for WRT workers.

Twenty-four OBWC-insured WRT establishments will be recruited from each of three total employee categories (<20 employees, 20-99 employees, and 100+ employees) for a total of 72 establishments with 3,240 employees. The study sub-sample (people, work groups or workplaces chosen from the sampling frame) will be volunteer employees at OBWC-insured WRT establishments who perform material handling tasks related to the delivery operations of large items (such as appliances, furniture, vending machines, furnaces, or water heaters) that are expected to be impacted by the powered hand truck (PHT) and truck lift gate (TLG) interventions. It is estimated that there will be 960 impacted employees in the recruited establishments, which will be paired according to previous WC loss history and establishment size. Within each pair, one establishment will be randomly chosen to receive the PHT or TLG intervention in the first phase, and the other will serve as a matched control until it receives the same intervention 12 months later.

The main outcomes for this study are self-reported low back pain and upper extremity pain collected using surveys every three months over a two-year period from volunteer WRT delivery workers at participating establishments. Individuals will also be asked to report usage of the interventions and material handling exposures every three months over two years. Individuals will also be asked to complete an annual health assessment survey at baseline, and once annually for two years. A 20% sample of survey participants will also be asked to participate in a clinical assessment of low back function at baseline, and once annually for two years. In order to maximize efficiency and reduce burden, a web-based survey is proposed for the majority (95%) of survey data collection. All collected information will be used to determine whether there are significant differences in reported musculoskeletal pain and functional back pain score ratios (pre/post intervention scores) when intervention and control groups are compared, while controlling for covariates. Once the study is completed, results will be made available through the NIOSH internet site and peer-reviewed publications.

In summary, this study will determine the effectiveness of the tested MSD interventions for WRT delivery workers and enable evidence based prevention practices to be shared with the greatest audience possible. NIOSH expects to complete data collection in 2014. There is no cost to respondents other than their time. The total estimated annual burden hours are 1,500.

Estimated Annualized Burden Hours

Type of respondent | Form name | Number of respondents | Number of responses per respondent | Avg. burden per response (in hours)
Delivery Workers in Wholesale/Retail Trade (WRT) Operations | Self-reported low back pain | 960 | 4.5 | 5/60
| Self-reported upper extremity pain | 960 | 4.5 | 5/60
| Self-reported specific job tasks and safety incidents | 960 | 4.5 | 5/60
| Self-reported general work environment and health | 960 | 1.5 | 10/60
| Informed Consent Form (Overall Study) | 960 | .5 | 5/60
| Low Back Functional Assessment | 192 | 1.5 | 20/60
| Informed Consent Form (Low Back Functional Assessment) | 960 | .5 | 5/60
| Early Exit Interview | 106 | .5 | 5/60

Dated: August 1, 2011.
Daniel Holcomb,
Reports Clearance Officer, Centers for Disease Control and Prevention.

[FR Doc. 2011-20033 Filed 8-5-11; 8:45 am]

BILLING CODE 4163-18-P